DEPARTMENT OF ENERGY

Federal Energy Regulatory Commission

Combined Notice of Filings #1

Take notice that the Commission received the following electric corporate filings:

Docket Numbers: EC13-81-000.

Applicants: Bangor Hydro Electric Company, Maine Public Service Company.

Description: Application under FPA Section 203 of Bangor Hydro Electric Company, et al.

Filed Date: 3/19/13.

Accession Number: 20130319-5035.

Comments Due: 5 p.m. ET 4/9/13.

Take notice that the Commission received the following electric rate filings:

Docket Numbers: ER10-1836-004; ER10-2005-004; ER11-26-004; ER10-1838-003; ER10-1839-004; ER10-2551-003; ER10-1915-003; ER12-569-004; ER10-1841-004; ER13-712-003; ER10-1843-004; ER10-1845-004; ER10-1844-004; ER10-1846-003; ER10-1849-003; ER11-2037-003; ER12-2227-003; ER10-1851-002; ER10-1852-004; ER10-1855-003; ER10-1985-003; ER10-1986-003; ER12-676-003; ER11-2192-004; ER10-1990-003; ER10-1991-004; ER12-1660-004; ER10-1993-003; ER10-1994-003; ER10-2078-005; ER10-1995-003; ER10-1857-003; ER10-1887-003; ER10-1897-004; ER10-1899-003; ER11-2365-004; ER10-1984-004; ER10-1983-004; ER10-1976-003; ER12-2444-002; ER10-1975-010; ER10-1950-004; ER10-1952-003; ER11-3635-003; ER10-2006-005; ER10-1961-003; ER12-1228-003; ER10-1963-003; R10-1964-004; ER10-1965-004; ER10-1948-002; ER10-1935-003; ER10-1932-003; ER10-1931-002; ER10-1930-002; ER11-2642-004; ER10-1928-005; ER10-1974-010; ER10-1951-004; ER10-1973-003; ER10-1972-004; ER10-1970-004; ER11-4462-005; ER12-895-003; ER12-1880-004; ER11-4428-005; ER10-2720-005; ER10-1927-004; ER10-1925-004; ER10-1920-005; ER10-1918-004; ER10-1907-004; ER10-1905-004; ER10-1903-003; ER10-1902-003; ER10-1900-003; ER10-1968-003; ER10-1967-003; ER10-1966-003; ER12-2225-002; ER12-2226-002; ER10-1847-001; ER10-1856-001; ER11-2160-001; ER10-1906-001; ER10-1962-001; ER11-4677-002; ER10-1989-001; ER11-4678-002; ER12-631-002; ER10-1971-009; ER10-1890-001; ER10-1992-001.

Applicants: Ashtabula Wind, LLC, Ashtabula Wind II, LLC, Ashtabula Wind III, LLC, Backbone Mountain Windpower LLC, Badger Windpower, LLC, Baldwin Wind, LLC, Bayswater Peaking Facility, LLC, Blackwell Wind, LLC, Butler Ridge Wind Energy Center, LLC, Cimarron Wind Energy, LLC, Crystal Lake Wind, LLC, Crystal Lake Wind II, LLC, Crystal Lake Wind III, LLC, Day County Wind, LLC, Elk City Wind, LLC, Elk City II Wind, LLC, Ensign Wind, LLC, ESI Vansycle Partners, L.P., Florida Power & Light Company, FPL Energy Burleigh County Wind, LLC., FPL Energy Cape, LLC, FPL Energy Cowboy Wind, LLC, FPL Energy Hancock County Wind, LLC, FPL Energy Illinois Wind, LLC, FPL Energy Maine Hydro, LLC, FPL Energy Marcus Hook, L.P., FPL Energy MH50 L.P., FPL Energy Mower County, LLC, FPL Energy North Dakota Wind, LLC, FPL Energy North Dakota Wind II, LLC, FPL Energy Oklahoma Wind, LLC, FPL Energy Oliver Wind I, LLC, FPL Energy Oliver Wind II, LLC, FPL Energy Sooner Wind, LLC, FPL Energy South Dakota Wind, LLC, FPL Energy Stateline II, Inc., FPL Energy Vansycle, L.L.C., FPL Energy Wyman, LLC,FPL Energy Wyman IV, LLC, FPL Energy Wyoming, LLC, Garden Wind, LLC, Gray County Wind Energy, LLC, Hatch Solar Energy Center I, LLC, Hawkeye Power Partners, LLC, High Majestic Wind Energy Center, LLC, High Majestic Wind II, LLC, Jamaica Bay Peaking Facility, LLC, Lake Benton Power Partners II, LLC, Langdon Wind, LLC, Limon Wind, LLC, Limon Wind II, LLC, Logan Wind Energy LLC, Meyersdale Windpower LLC, Mill Run Windpower, LLC, Minco Wind, LLC, Minco Wind II, LLC, Minco Wind III, LLC, Minco Wind Interconnection Services, LLC, NEPM II, LLC, NextEra Energy Duane Arnold, LLC, NextEra Energy Point Beach, LLC, NextEra Energy Seabrook, LLC, NextEra Energy Services Massachusetts, LLC, Northeast Energy Associates, A Limited Partnership, North Jersey Energy Associates, A Limited Partnership, North Sky River Energy, LLC, Northern Colorado Wind Energy, LLC, Osceola Windpower, LLC, Osceola Windpower II, LLC, Paradise Solar Urban Renewal, L.L.C., Peetz Table Wind Energy, LLC, Pennsylvania Windfarms, Inc., Perrin Ranch Wind, LLC, Red Mesa Wind, LLC, Somerset Windpower, Story Wind, LLC, Tuscola Bay Wind, LLC, Waymart Wind Farm, L.P., Wessington Wind Energy Center, LLC, White Oak Energy LLC, Wilton Wind II, LLC, Diablo Winds, LLC, FPL Energy Cabazon Wind, LLC, FPL Energy Green Power Wind, LLC, FPL Energy Montezuma Wind, LLC, FPL Energy New Mexico Wind, LLC, High Winds, LLC, NextEra Energy Montezuma II Wind, LLC, NextEra Energy Power Marketing, LLC, Sky River LLC, Vasco Winds, LLC, Victory Garden Phase IV, LLC, Windpower Partners 1993, LLC.

Description: Amendment to December 20, 2012 NextEra Resources Entities Notification of Non-material Change in Status in the California ISO, Inc. balancing authority area.

Filed Date: 3/19/13.

Accession Number: 20130319-5033.

Comments Due: 5 p.m. ET 4/9/13.

Docket Numbers: ER13-657-001.

Applicants: Public Service Company of Colorado.

Description: 2013-03-18-NSP-WKFLD-Tran-to Load-550 to be effective 1/1/2013.

Filed Date: 3/18/13.

Accession Number: 20130318-5101.

Comments Due: 5 p.m. ET 4/8/13.

Docket Numbers: ER13-1120-000.

Applicants: Bluesource Energy LLC.

Description: Initial MBR filing to be effective 4/5/2013.

Filed Date: 3/18/13.

Accession Number: 20130318-5147.

Comments Due: 5 p.m. ET 4/8/13.

Docket Numbers: ER13-1121-000.

Applicants: Peetz Logan Interconnect, LLC.

Description: Peetz Logan Interconnect, LLC's Application to Support Modifications to the OATT to be effective 11/1/2011.

Filed Date: 3/18/13.

Accession Number: 20130318-5148.

Comments Due: 5 p.m. ET 4/8/13.

Docket Numbers: ER13-1122-000.

Applicants: Southern California Edison Company.

Description: Citrus Pump Station Wholesale Dist Load IFA with CA Dept of Water Resources to be effective 3/20/2013.

Filed Date: 3/19/13.

Accession Number: 20130319-5000.

Comments Due: 5 p.m. ET 4/9/13.

Docket Numbers: ER13-1123-000.

Applicants: Southwest Power Pool, Inc.

Description: Petition of Southwest Power Pool, Inc. For Waiver of Tariff Provisions.

Filed Date: 3/18/13.

Accession Number: 20130318-5170.

Comments Due: 5 p.m. ET 4/1/13.

Docket Numbers: ER13-1125-000.

Applicants: Bangor Hydro Electric Company.

Description: Request for Waiver of Bangor Hydro Electric Company.

Filed Date: 3/19/13.

Accession Number: 20130319-5037.

Comments Due: 5 p.m. ET 4/9/13.

Docket Numbers: ER13-1126-000.

Applicants: Luminant Energy Company LLC.

Description: Luminant Energy Company LLC submits tariff filing per 35.15: Notice of Cancellation to be effective 3/20/2013.

Filed Date: 3/19/13.

Accession Number: 20130319-5041.

Comments Due: 5 p.m. ET 4/9/13.

Docket Numbers: ER13-1127-000.

Applicants: Orange and Rockland Utilities, Inc.

Description: Orange and Rockland Utilities, Inc. submits tariff filing per 35.13(a)(2)(iii: O&R Undergrounding Rate 3.19.13 to be effective 4/1/2013.

Filed Date: 3/19/13.

Accession Number: 20130319-5042.

Comments Due: 5 p.m. ET 4/9/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 19, 2013.
Nathaniel J. Davis, Sr.,
Deputy Secretary.

[FR Doc. 2013-06993 Filed 3-26-13; 8:45 am]

BILLING CODE 6717-01-P